ENVIRONMENTAL PROTECTION AGENCY

[FRL-8718-5]

Science Advisory Board Staff Office; Science Advisory Board (SAB); Notification of a Public Advisory Committee Meeting and Three Teleconferences of the Integrated Nitrogen Committee

AGENCY: Environmental Protection Agency (EPA).

ACTION: Notice.

SUMMARY: The Environmental Protection Agency (EPA) Science Advisory Board (SAB) Staff Office announces a public face-to-face meeting of the Science Advisory Board's (SAB's) Integrated Nitrogen Committee (INC) and three subsequent public teleconference of the INC.

DATES: INC will meet from 8:30 a.m. on Monday, October 20 through 12:30 p.m. on Wednesday, October 22, 2008. The teleconferences will be held December 8, 9, and 10, 2008 from 2 p.m. to 5 p.m. All times are given in Eastern Time.

Location: The October 20-22, 2008 public meeting will take place at the Renaissance—M Street Hotel, 1143 New Hampshire Ave., NW., Washington, DC 20037, telephone: (202) 775-0800. The December 8, 9, and 10, 2008 public teleconferences will be conducted by phone only.

FOR FURTHER INFORMATION CONTACT: Any member of the public who wants further information concerning the October 20-22, 2008 meeting or on the teleconferences December 8, 9, and 10, 2008 may contact Ms. Kathleen White, Designated Federal Officer (DFO), EPA Science Advisory Board (1400F), U.S. Environmental Protection Agency, 1200 Pennsylvania Avenue, NW., Washington, DC 20460; via telephone/voice mail: (202) 343-9878; fax: (202) 233-0643; or e-mail at white.kathleen@epa.gov. General information concerning the SAB can be found on the EPA Web site at http://www.epa.gov/SAB.

SUPPLEMENTARY INFORMATION: The SAB was established by 42 U.S.C. 4365 to provide independent scientific and technical advice, consultation, and recommendations to the EPA Administrator on the technical basis for Agency positions and regulations. The SAB is a Federal advisory committee chartered under the Federal Advisory Committee Act (FACA), as amended, 5 U.S.C., App. The SAB will comply with the provisions of FACA and all appropriate SAB Staff Office procedural policies.

Background: The SAB Integrated Nitrogen Committee is studying the need for integrated research and strategies to reduce reactive nitrogen in the environment. At the global scale, reactive nitrogen from human activities now exceeds that produced by natural terrestrial ecosystems. Reactive nitrogen both benefits and impacts the health and welfare of people and ecosystems. Scientific information suggests that reactive nitrogen is accumulating in the environment and that nitrogen cycling through biogeochemical pathways has a variety of consequences. Research suggests that the management of reactive nitrogen should be viewed from a systems perspective and integrated across environmental media. Accordingly, linkages between reactive nitrogen induced environmental and human health effects need to be understood to optimize reactive nitrogen research and risk management strategies. Information on the Committee's previous meetings was published on January 17, 2007 (72 FR 1989), March 22, 2007 (72 FR 3492), August 14, 2007 (72 FR 4542), November 20, 2007 (72 FR 65340) and March 19, 2008 (73 FR 4802). The information is also available on the SAB Web site at http://yosemite.epa.gov/sab/sabproduct.nsf/fedrgstr_activites/Nitrogen%20Project.

At the October 20-22, 2008 public meeting, the INC will: (1) Present its preliminary findings and recommendations; (2) engage with invited participants in breakout groups to get their input on the preliminary recommendations relating to integrated risk reduction for nitrogen; and (3) consider how to incorporate the input received as the Committee prepares its advisory report for EPA.

The purpose of the subsequent teleconferences of December 8, 9, and 10 is for the committee to discuss its revised draft report.

Availability of Meeting Materials: As they become available, the agenda and materials for this meeting will be posted on the SAB Web site prior to the meeting.

Procedures for Providing Public Input: Interested members of the public may submit relevant written or oral information for consideration on the topics included in this advisory activity. Oral Statements: Speakers who wish to be placed on the public speaker list for the morning of October 22, 2008 meeting should notify Ms. Kathleen White, DFO, by e-mail no later than October 6, 2008. Oral presentations will be limited to one hour for all speakers. To be placed on the public speaker list for the December 8, 9, and 10, 2008 teleconferences, interested parties should notify Ms. Kathleen White, DFO, by e-mail no later than December 1, 2008. Oral presentations will be limited to a total of 30 minutes for all speakers. Written Statements: Written statements for the October 20-22, 2008 meeting should be received in the SAB Staff Office by October 13, 2008, so that the information may be made available to the INC for its consideration prior to this meeting. For the INC teleconferences in December, statements should be received in the SAB Staff Office by December 1, 2008. Written statements should be supplied to the appropriate DFO as an electronic copy via e-mail (acceptable file formats: Adobe Acrobat PDF, MS Word, WordPerfect, MS PowerPoint, or Rich Text files in IBM-PC/Windows 98/2000/XP format).

Accessibility: For information on access or services for individuals with disabilities, please contact Ms. White at the phone number or e-mail address noted above, preferably at least ten days prior to the face-to-face meeting, to give EPA as much time as possible to process your request.

Dated: September 16, 2008.
Anthony F. Maciorowski,
Deputy Director, EPA Science Advisory Board Staff Office.

[FR Doc. E8-22225 Filed 9-22-08; 8:45 am]

BILLING CODE 6560-50-P